DEPARTMENT OF COMMERCE

National Oceanic and Atmospheric Administration

[RTID 0648-XE849]

Taking Marine Mammals Incidental to Ice Road and Ice Trail Construction, Operation, and Maintenance Activities on Alaska's North Slope

AGENCY: National Marine Fisheries Service (NMFS), National Oceanic and Atmospheric Administration (NOAA), Commerce.

ACTION: Notice; receipt of application for letter of authorization; request for comments and information.

SUMMARY: NMFS has received a request from Hilcorp Alaska, LLC (Hilcorp) for authorization to take marine mammals incidental to ice road and trail construction, operation, and maintenance activities along the Beaufort Sea coast, Alaska, for a period of 5 years (2025-2030). Pursuant to regulations implementing the Marine Mammal Protection Act (MMPA), NMFS is announcing receipt of Hilcorp's request for the development and implementation of regulations governing the incidental taking of marine mammals. NMFS invites the public to provide information, suggestions, and comments on Hilcorp's application and request.

DATES: Comments and information must be received no later than June 16, 2025.

ADDRESSES: Comments on the application should be addressed to the Permits and Conservation Division, Office of Protected Resources, National Marine Fisheries Service. Physical comments should be sent to 1315 East-West Highway, Silver Spring, MD 20910 and electronic comments should be sent to ITP.Pauline@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/national/marine-mammal-protection/incidental-take-authorizations-oil-and-gas without change. All personal identifying information (e.g., name, address) voluntarily submitted by the commenter may be publicly accessible. Do not submit confidential business information or otherwise sensitive or protected information.

An electronic copy of Hilcorp's application may be obtained online at: https://www.fisheries.noaa.gov/national/marine-mammal-protection/incidental-take-authorizations-oil-and-gas. In case of problems accessing these documents, please call the contact listed below.

FOR FURTHER INFORMATION CONTACT: Robert Pauline, Office of Protected Resources, NMFS, (301) 427-8401.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An incidental take authorization shall be granted if NMFS finds that the taking will have a negligible impact on the species or stock(s), will not have an immitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as: any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On September 12, 2024, NMFS received an application from Hilcorp requesting authorization for take of marine mammals incidental to construction activities associated with sea ice road and trail activities at Northstar Production Facility (Northstar), Spy Island Drillsite (SID), and Oooguruk Drillsite (ODS) located in coastal Beaufort Sea waters off of the north slope of Alaska. We provided comments on the application and Hilcorp submitted a revised version on April 3, 2025. The application was deemed adequate and complete on May 5, 2025. The requested regulations under which we would issue the requested Letter of Authorization (LOA) would be valid for 5 years, December 2025 through November 2030. During the ice-covered season, Hilcorp annually constructs sea ice roads and trails to connect and allow access between West Dock and Northstar. Similarly, Hilcorp builds and utilizes an ice road or trail connecting the Oliktok Production Pad (OPP) and SID and also builds an annual ice road from shore to the ODS. Construction activities and subsequent use and maintenance of ice roads and trails are expected to disturb nearby pinnipeds, potentially resulting in incidental take by Level B harassment or mortality. Therefore, Hilcorp requests authorization to incidentally take marine mammals. This would be the second rule covering the activities described below. The current regulations and associated LOA are effective from December 22, 2020 through November 30, 2025.

Specified Activities

The purpose of Hilcorp's activities is to transport personnel, equipment and provisions to the off-shore Northstar, SID and ODS production facilities during the winter months when the ocean surface is frozen. The proposed activities would include the building and maintenance of ice roads, ice trails and adjacent ice pads. Sea ice road construction activities occur 24 hours a day, 7 days a week during the construction phase (approximately 6 weeks), and are halted during unsafe conditions such as high winds or extremely low temperatures. After the roads are completed, Hilcorp would need to conduct maintenance activities anytime, day or night, in order to maintain a safe route of travel. Ice road and trail activities would occur between December 1 and May 31 each year between 2025 and 2030, depending on weather and ice conditions. Take by Level B harassment along with the limited potential for mortality (four instances over 5 years) has been requested for ringed seal (Phoca hispida). The Hilcorp application contains mitigation and monitoring measures designed to reduce impacts to marine mammals. The application also contains proposed marine mammal monitoring and reporting plans.

Information Solicited

Interested persons may submit information, suggestions, and comments concerning Hilcorp's request (see ADDRESSES). NMFS will consider all information, suggestions, and comments related to the request during the development of proposed regulations governing the incidental taking of marine mammals by Hilcorp, if appropriate.

Dated: May 13, 2025.
Kimberly Damon-Randall,
Director, Office of Protected Resources, National Marine Fisheries Service.

[FR Doc. 2025-08762 Filed 5-15-25; 8:45 am]

BILLING CODE 3510-22-P